EQUAL EMPLOYMENT OPPORTUNITY COMMISSION

Sunshine Act Meeting Notice

Agency Holding the Meeting: Equal Employment Opportunity Commission.

Federal Register Citations of Previous Announcement: 70 FR 54381, September 14, 2005.

Previously Announced Time and Date of Meeting: 2 p.m. (Eastern Time) Wednesday, September 21, 2005.

Change in the Meeting: The meeting has been cancelled.

For Further Information Contact: Stephen Llewellyn, Acting Executive Officer on (202) 663-4070.

Dated: September 14, 2005.
Stephen Llewellyn,
Acting Executive Officer.

[FR Doc. 05-18691 Filed 9-15-05; 12:22 pm]

BILLING CODE 6750-06-M